DEPARTMENT OF HOMELAND SECURITY

Coast Guard

33 CFR Part 165

[CGD05-06-052]

RIN 1625-AA87

Security Zone; Severn River and College Creek, Annapolis, MD

AGENCY: Coast Guard, DHS.

ACTION: Temporary final rule; correction.

SUMMARY: The Coast Guard published a document in the Federal Register on May 25, 2006 (71 FR 30060), establishing a temporary security zone on the Severn River and College Creek during Vice President Cheney's attendance at the commencement at the U.S. Naval Academy in Annapolis, Maryland. The document contained incorrect coordinates to describe the security zone.

DATES: The correction to this rule is effective May 25, 2006. The rule itself is effective May 26, 2006.

ADDRESSES: Documents indicated in this preamble as being available in the docket are part of docket CGD05-06-052 and are available for inspection or copying at Commander, Coast Guard Sector Baltimore, 2401 Hawkins Point Road, Baltimore, Maryland 21226-1791, between 9 a.m. and 4 p.m., Monday through Friday, except Federal holidays.

FOR FURTHER INFORMATION CONTACT: Ronald L. Houck, Waterways Management Division, U.S. Coast Guard Sector Baltimore, telephone 410-576-2674, Fax 410-576-2553.

SUPPLEMENTARY INFORMATION: In FR Doc. E6-8068 appearing on page 30060 in the Federal Register of May 25, 2006, the following correction is made:

§ 165.35-T05-052 [Corrected]

1. On page 30062, in the first column, in § 165.35-T05-052 Severn River and College Creek, Annapolis, MD, revise paragraph (b) to read as follows:

“The following area is a security zone: All waters of the Severn River, from shoreline to shoreline, bounded by a line drawn from Horseshoe Point eastward across the Severn River to a point located at 39°00′01.5″ N., 076°29′ 08.5″ W., and a line drawn from Biemans Point westward across the Severn River to a point located at 38°59′04″ N., 076°28′50″ W., located at the Naval Academy Waterfront. This security zone includes the waters of College Creek eastward of the King George Street Bridge (NAD 1983).”

Dated: May 25, 2006.
Stefan G. Venckus,
Chief, Office of Regulations and Administrative Law, United States Coast Guard.

[FR Doc. E6-8428 Filed 5-31-06; 8:45 am]

BILLING CODE 4910-15-P